NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (1173).

Dates/Time: June 16, 2005, 8:30 a.m.-5:30 p.m. and June 17, 2005, 8:30 a.m.-2 p.m.

Place: National Science Foundation, 4201 Wilson Boulevard, Room 1235 S, Arlington, VA 22230.

Type of Meeting: Open.

Contact Person: Dr. Margaret E.M. Tolbert, Senior Advisor and Executive Liaison, CEOSE, Office of integrative Activities, National Science Foundation, 4201 Wilson Boulevard, Arlington, VA 22230. Telephone: (703) 292-8040.

Minutes: May be obtained from the Executive Liaison at the above address.

Purpose of Meeting: To provide advice and recommendations concerning broadening participation in science and engineering.

Agenda:

Thursday, June 16, 2005

Welcome and Opening Statement by the CEOSE Chair.

Introductions.

Review of the CEOSE Meeting Agenda and Minutes.

Discussions/Presentations: Broadening Participation in CISE; Cyberinfrastructure; The 1994-2003 Decennial & 2004 Biennial Report to Congress; The Promotion of Gender Equity in STEM Using Title IX; NSF Obligations to Historically Black Colleges and Universities.

Friday, June 17, 2005

Opening Statement by the CEOSE Chair.

Discussions/Presentations: Reports on NSF Advisory Committees; Future CEOSE Agendas and Activities.

Discussion with Dr. Arden L. Bement, Jr., Director of the National Science Foundation.

Completion of Unfinished Business.

Dated: May 31, 2005.
Susanne Bolton,
Committee Management Officer.

[FR Doc. 05-11069 Filed 6-2-05; 8:45 am]

BILLING CODE 7555-01-M